DEPARTMENT OF THE INTERIOR

Fish and Wildlife Service

[FWS-R8-ES-2013-N240; FXES11130800000-134-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before October 21, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-062121

Applicant: Ryan R. Young, Wrightwood, California.

The applicant requests a permit renewal to take (harass by survey and locate and monitor nests) the southwestern willow flycatcher (Empidonax traillii extimus) in conjunction with survey and population monitoring activities throughout the range of the species in California, Nevada, Arizona, New Mexico, Texas, Utah, and Colorado for the purpose of enhancing the species' survival.

Permit No. TE-205609

Applicant: Lawrence P. Kobernus, San Francisco, California.

The applicant requests a permit renewal and amendment to take (harass by survey, capture, handle, and release) the callippe silverspot butterfly (Speyeria callippe callippe) and California tiger salamander (Santa Barbara County DPS) (Ambystoma californiense) in conjunction with survey activities throughout the range of each species within the jurisdictional area of the Sacramento Field Office of the U.S. Fish and Wildlife Service in California for the purpose of enhancing the species' survival.

Permit No. TE-022183

Applicant: Los Angeles World Airports, Los Angeles, California.

The applicant requests a permit renewal to take (harass by survey and conduct maintenance, restoration, and habitat enhancement activities) the El Segundo blue butterfly (Euphilotes battoides allyni) in conjunction with restoration and habitat enhancement activities on lands owned and operated by the Los Angeles World Airport, Los Angeles County, California, for the purpose of enhancing the species' survival.

Permit No. TE-086267

Applicant: Channel Islands National Park, Ventura, California.

The applicant requests a permit renewal to take (survey, capture, handle, measure, determine sex, insert passive integrated transponder (PIT) tags, radio-collar, vaccinate, collect biological samples, conduct veterinary care, transport, and release to the wild) the San Miguel Island fox (Urocyon littoralis littoralis), Santa Rosa Island fox (Urocyon littoralis santarosae), and Santa Cruz Island fox (Urocyon littoralis santacruzae) in conjunction with surveys, population monitoring, and scientific research on San Miguel Island, Santa Rosa Island, and Santa Cruz Island, Ventura County, California, for the purpose of enhancing the species' survival.

Permit No. TE-815537

Applicant: Swaim Biological, Incorporated, San Francisco, California.

The applicant requests a permit renewal to take (harass by survey, capture, handle, mark, collect tissue, insert passive integrated transponder (PIT) tags, and release) the San Francisco garter snake (Thamnophis sirtalis tetrataenia) and take (harass by survey, capture, handle, and release) the California tiger salamander (Santa Barbara County DPS and Sonoma County DPS) (Ambystoma californiense) in conjunction with survey activities and scientific research throughout the range of each species in California for the purpose of enhancing the species' survival.

Permit No. TE-075898

Applicant: Sue Orloff, San Rafael, California.

The applicant requests a permit renewal to take (harass by survey, capture, handle, mark, and release) the California tiger salamander (Santa Barbara County DPS and Sonoma County DPS) (Ambystoma californiense) in conjunction with survey activities throughout the range of the species in California for the purpose of enhancing the species' survival.

Permit No. TE-053598-4

Applicant: Nicole M. Kimball, Spring Valley, California.

The applicant requests a permit renewal to take (survey by pursuit) the Quino checkerspot butterfly (Euphydryas editha quino) and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Dated: September 13, 2013.
Larry Rabin,
Acting Regional Director, Pacific Southwest Region, Sacramento, California.

[FR Doc. 2013-22776 Filed 9-18-13; 8:45 am]

BILLING CODE 4310-55-P